DEPARTMENT OF HOMELAND SECURITY

Coast Guard

33 CFR Part 117

[Docket No. USCG-2018-0407]

Drawbridge Operation Regulation; Schooner Bayou Canal, Little Prairie Ridge, LA

AGENCY: Coast Guard, DHS.

ACTION: Notice of deviation from drawbridge regulation.

SUMMARY: The Coast Guard has issued a temporary deviation from the operating schedule that governs the State Route 82 (Little Prairie) swing span bridge across Schooner Bayou Canal (Old Intracoastal Waterway), mile 4.0, in Little Prairie Ridge, LA. The deviation is necessary to replace hydraulic piping, which will increase the reliability of the bridge's operation. This deviation allows the bridge four approved daylight openings four hours apart and to remain in the closed-to-navigation position at night.

DATES: This deviation is effective from 6 a.m. on November 5, 2018, through 6 p.m. on November 17, 2018.

ADDRESSES: The docket for this deviation, USCG-2018-0407 is available at http://www.regulations.gov. Type the docket number in the “SEARCH” box and click “SEARCH”. Click on Open Docket Folder on the line associated with this deviation.

FOR FURTHER INFORMATION CONTACT: If you have questions on this temporary deviation, call or email Ms. Donna Gagliano, Bridge Branch Office, Eighth District, U.S. Coast Guard; telephone 504-671-2128, email Donna.Gagliano@uscg.mil.

SUPPLEMENTARY INFORMATION: The Louisiana Department of Transportation and Development (LA-DOTD) has requested a temporary deviation from the operating schedule for the State Route 82 (Little Prairie) swing span bridge across Schooner Bayou Canal (Old Intracoastal Waterway), mile 4.0, at Little Prairie Ridge, LA to replace hydraulic piping that will improve the bridge's operation. The bridge has a vertical clearance in the closed position of 6 feet above mean high water and 9 feet above low water, at the pivot pier, and a foot higher at the rest pier. The current operating schedule is set out in 33 CFR 117.494. The bridge currently opens on signal for the passage of vessels, except that, from 10 p.m. to 6 a.m. it requires at least four hours' notice. For an emergency, the draw will open on less than four hours' notice, and it will open on signal should a temporary surge in waterway traffic occur.

This temporary deviation allows the bridge to open on signal at four approved daylight openings four hours apart, at 6 a.m., 10 a.m., 2 p.m., and 6 p.m., and to otherwise remain in the closed-to-navigation position at night from 6 p.m. through 6 a.m. for a 13 day period from 6 a.m. on Monday, November 5, 2018, through 6 p.m. on Saturday, November 17, 2018. Navigation on the waterway consists of tugs with tows, fishing vessels and recreational craft. The bridge will not be able to open for emergencies; however, an alternate route is available via the Gulf Intracoastal Waterway. The Coast Guard will also inform the waterway users of the changes in operating schedule for the bridge through our Local and Broadcast Notices to Mariners so that vessel operators can arrange their transits to minimize any impact caused by the temporary deviation.

In accordance with 33 CFR 117.35(e), the drawbridge must return to its regular operating schedule immediately at the end of the effective time period. This deviation from the operating regulations is authorized under 33 CFR 117.35.

Dated: October 24, 2018.
Douglas A. Blakemore,
Bridge Administrator, U.S. Coast Guard Eighth District.

[FR Doc. 2018-24048 Filed 11-1-18; 8:45 am]

BILLING CODE 9110-04-P